DEPARTMENT OF ENERGY

Federal Energy Regulatory Commission

Combined Notice of Filings

Take notice that the Commission has received the following Natural Gas Pipeline Rate and Refund Report filings:

Docket Number: PR21-3-000.

Applicants: Southern California Gas Company.

Description: Tariff filing per 284.123(b),(e)+(g): Offshore Delivery Service Rate Revision to be effective 10/1/2020.

Filed Date: 11/15/20.

Accession Number: 202010155097.

Comments Due: 5 p.m. ET 11/5/20.

284.123(g) Protests Due: 5 p.m. ET 12/14/20.

Docket Numbers: RP21-58-000.

Applicants: Dominion Energy Overthrust Pipeline, LLC.

Description: § 4(d) Rate Filing: Revised Title Page to be effective 11/1/2020.

Filed Date: 10/15/20.

Accession Number: 20201015-5102.

Comments Due: 5 p.m. ET 10/27/20.

Docket Numbers: RP21-59-000.

Applicants: Dominion Energy Questar Pipeline, LLC.

Description: § 4(d) Rate Filing: Revised Title Page to be effective 11/1/2020.

Filed Date: 10/15/20.

Accession Number: 20201015-5106.

Comments Due: 5 p.m. ET 10/27/20.

Docket Numbers: RP21-60-000.

Applicants: White River Hub, LLC.

Description: § 4(d) Rate Filing: revised title pages to be effective 11/1/2020.

Filed Date: 10/15/20.

Accession Number: 20201015-5109.

Comments Due: 5 p.m. ET 10/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2020.
Nathaniel J. Davis, Sr.,
Deputy Secretary.

[FR Doc. 2020-23404 Filed 10-21-20; 8:45 am]

BILLING CODE 6717-01-P